DEPARTMENT OF ENERGY

Federal Energy Regulatory Commission

[Project No. 1005]

City of Boulder; Notice Soliciting Applications

September 13, 2007.

On August 30, 2004, the City of Boulder (City), the licensee for the Boulder Canyon Hydroelectric Project No.1005, filed a notice of intent to file an application for a small conduit exemption for a reconfigured Boulder Canyon Project, pursuant to section 15(b)(1) of the Federal Power Act (FPA). The current license for Project No. 1005 expires on August 31, 2009.

The project is located on Boulder Creek, in Boulder County, near the City of Boulder, Colorado. The project occupies about 36 acres of U.S. Forest Service lands within Roosevelt National Forest. The licensed project consists of: (a) A concrete gravity dam about 720 feet long having a maximum height of 175 feet, including a spillway about 127 feet long with a crest elevation of 8,181.5 feet mean sea level (msl), creating the Barker Reservoir which has a surface area of 200 acres and a gross storage capacity of 11,687 acre-feet at normal pool elevation 8,180 feet msl; (b) an outlet gate control structure; (c) a 5-foot-by-5-foot concrete tunnel, about 225 feet long and connecting by way of a valve house to an 11.7-mile-long, 36-inch-diameter concrete gravity pipeline; (d) the Kossler Reservoir, a reregulating reservoir having a surface area of 12.25 acres and a gross storage capacity of 165 acre-feet at maximum pool elevation 7,717.6 feet msl and formed by three earth embankment structures: (i) Southwest Dam, an earth-concrete core structure about 450 feet long and about 18 feet high; (ii) Northeast Dam, an earth embankment structure about 20 feet high and 180 feet long; and (iii) West Dam, an earth embankment structure 420 feet long, having a maximum height of about 5 feet; (e) a concrete outlet structure with trash screens and a gate connecting to a 9,340-foot-long steel penstock varying in diameter from 56 to 44 inches; (f) a powerhouse containing two generating units having a total installed capacity of 20 megawatts; (g) a 13-kV generator bus and two 13/115-kV step-up transformers; and (h) appurtenant facilities.

The City did not file an application for a new license or an exemption application for the project. Pursuant to 18 CFR 16.25 (2007), the Commission is soliciting license applications from potential applicants other than the existing licensee. This is necessary because the deadline for filing an application for new license or exemption and any competing applications, pursuant to 18 CFR 16.9 (2007) was August 31, 2007, and no other applications for license for this project were filed.

The licensee is required to make available certain information described in 18 CFR 16.7 (2007). Such information is available by contacting the City of Boulder, Director of Public Water Works for Utilities, P.O. Box 791, Boulder, CO 80306-0791, or by phone at (303) 441-3266.

A potential applicant that files a notice of intent within 90 days from the date of issuance of this notice: (1) May apply for a license under Part I of the FPA and Part 4 (except section 4.38) of the Commission's Regulations within 18 months of the date on which it files its notice; and (2) must comply with the requirements of 18 CFR 16.8 and 16.10 of the Commissions regulations.

Questions concerning this notice should be directed to Gaylord Hoisington, (202) 502-6032 or by e-mail at Gaylord.hoisington@ferc.gov.

Kimberly D. Bose,
Secretary.

[FR Doc. E7-18424 Filed 9-18-07; 8:45 am]

BILLING CODE 6717-01-P